DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: National Outcome Measures (NOMs) for Consumers Receiving Mental Health Services—NEW

The mission of SAMHSA's Center for Mental Health Services (CMHS) is to treat mental illnesses by promoting mental health and by preventing the development or worsening of mental illness when possible. Congress created CMHS to bring new hope to adults who have serious mental illnesses and to children with serious emotional disorders.

The purpose of this proposed data activity is to promote the use of consistent measures among CMHS grantees and contractors funded through the Program of Regional and National Significance (PRNS) and Children's Mental Health Initiative (CMHI) budget lines. The common National Outcome Measures recommended by CMHS are a result of extensive examination and recommendations, using consistent criteria, by panels of staff, experts, and grantees. Wherever feasible, the proposed measures are consistent with or build upon previous data development efforts within CMHS. This activity will be organized to reflect and support the domains specified for SAMHSA's NOMs. The use of consistent measurement for specified outcomes across CMHS-funded projects will improve the ability of SAMHSA and CMHS to respond to the Government Performance and Results Act (GPRA) and the Office of Management and Budget Program Assessment Rating Tool (PART) evaluations.

A separate data collection form will be used for adults and children but will be parallel in design. NOMs data will be collected at baseline with a periodic reassessment being conducted at either three or six months for as long as the client remains in treatment. Programs have selected either a three or six month reassessment interval based on their treatment protocol. The proposed data collection will cover eight of the ten domains in NOMs. The Cost-Effectiveness and Evidence-Based Practices domains are under development. Completion of these domains will require input from other sources and is anticipated for Summer 2007.

Domain | Adult: Source | Adult: Number of items | Child: Source | Child: Number of items
Access/Capacity | SAMSHA Standardized Question | 4 | SAMSHA Standardized Question 4 | 4
Functioning | Mental Health Statistics Improvement Program (MHSIP) | 8 | Youth Services Survey for Families (YSS-F) | 6
Stability in Housing | SAMSHA Standardized Question | 1 | SAMSHA Standardized Question 2 | 2
Education and Employment | SAMSHA Standardized Question | 3 | SAMSHA Standardized Question 2 | 2
Crime and Criminal Justice | SAMSHA Standardized Question | 1 | SAMSHA Standardized Question 1 | 1
Perception of Care | MHSIP | 14 | YSS-F | 13
Social Connectedness | MHSIP | 4 | YSS-F | 4
Retention ¹ | SAMSHA Standardized Question | 1 | SAMSHA Standardized Question | 1
Total Number |  | 36 |  | 33
¹ Retention is measured at the first interview for a continuing consumer (baseline), follow-up interview, and discharge interview. The survey was modified to include an item in Section K (Services Received) where the provider will indicate whether the consumer received Inpatient Psychiatric Care within the past 6 months; specifically, item 3 under Treatment Services.

In addition to questions asked of clients related to the NOMs domains, programs will be required to abstract information from client records on the services received.

Following is the estimated annual response burden for this effort.

Type of response | Number of respondents | Data collection per respondents | Hours per data collection | Total hour burden
Client Baseline Assessment | 17,555 | 1 | 0.333 | 5,852
Periodic Client Reassessment | 7,015 (3-month) 6,532 (6-month) | 1 1 | 0.333 0.333 | 2,338 2,178
Discharge Interviews | 4,409 | 1 | 0.333 | 1,470
Chart Abstraction | 7,015 (3-month) 6,532 (6-month) 11,023 (Discharge) | 1 1 1 | 0.1 0.1 0.1 | 702 653 1,102
Total | 17,555 |  |  | 14,294

Written comments and recommendations concerning the proposed information collection should be sent by January 16, 2007 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 7, 2006.
Elaine Parry,
Acting Director, Office of Program Services.

[FR Doc. E6-21349 Filed 12-14-06; 8:45 am]

BILLING CODE 4162-20-P